DEPARTMENT OF ENERGY

Federal Energy Regulatory Commission

[Docket No. EG02-79-000, et al.]

PG&E Dispersed Generating Company, LLC, et al; Electric Rate and Corporate Regulation Filings

April 8, 2002.

Take notice that the following filings have been made with the Commission. Any comments should be submitted in accordance with Standard Paragraph E at the end of this notice.

1. PG&E Dispersed Generating Company, LLC

[Docket No. EG02-79-000]

Take notice that on April 5, 2002, PG&E Dispersed Generating Company, LLC, a Delaware limited liability company, filed with the Commission an amendment to its application for redetermination of exempt wholesale generator status, pursuant to Section 32 of the Public Utility Holding Company Act of 1935 and Part 365 of the Commission's regulations.

Comment Date: April 29, 2002.

2. Consolidated Edison Company of New York, Inc.

[Docket Nos. EL01-45-001 ER01-1385-001]

Take notice that on March 27, 2002, Consolidated Edison Company of New York, Inc., the New York Independent System Operator, Inc.”s submitted to the Federal Energy Regulatory Commission (Commission) revised tariff sheets dated March 20, 2002 in these proceedings and in Docket ER01-3155-000, Consolidated Edison Company of New York, Inc.”s First Revised Electric Rate Schedule FERC No. 199, effective date September 22, 1998 and filed with the Commission, is to be canceled.

Notice of the proposed cancellation has been served on the parties on the Commission's official service list in these proceedings.

Comment Date: May 6, 2002.

3. Edison Mission Marketing & Trading, Inc., EME Homer City Generation, L.P., Harbor Cogeneration Company, Midwest Generation, LLC, Sunrise Power Co., CL Power Sales One, L.L.C., CL Power Sales Two, L.L.C., CP Power Sales Five, L.L.C., CL Power Sales Six, L.L.C., CL Power Sales Seven, L.L.C., CL Power Sales Eight, L.L.C., CL Power Sales Nine, L.L.C., CL Power Sales Ten, L.L.C., CP Power Sales Twelve, L.L.C., CP Power Sales Thirteen, L.L.C., CP Power Sales Fourteen, L.L.C., CP Power Sales Fifteen, L.L.C., CP Power Sales Seventeen, L.L.C., CP Power Sales Eighteen, L.L.C., CP Power Sales Nineteen, L.L.C., CP Power Sales Twenty, L.L.C., Citizen Power Sales

[Docket Nos. ER99-852-006, ER99-666-002, ER99-1248-002, ER99-3693-001, ER01-2217-002, ER95-892-055, ER95-892-055, ER95-892-055, ER96-2652-049, ER96-2652-049, ER96-2652-049, ER96-2652-049, ER96-2652-049, ER99-893-007, ER99-892-008, ER99-891-008, ER99-890-008, ER99-4229-005, ER99-4230-004, ER99-4228-005, ER99-4231-004, ER94-1685-031]

Take notice that on April 1, 2002, Edison Mission Marketing & Trading, Inc., on behalf of itself and its public utility affiliates listed above, submitted a consolidated triennial market power analysis update.

Comment Date: April 22, 2002.

4. Carolina Power & Light Company and Florida Power Corporation

[Docket Nos. ER01-1807-009 and ER01-2020-006]

Take notice that on April 2, 2002, Progress Energy, Inc., on behalf of Florida Power Corporation (FPC) and Carolina Power & Light Company (CP&L), tendered for filing with the Federal Energy Regulatory Commission (Commission or FERC) four revised service agreements for network service (Revised Service Agreements) under both FPC's open-access transmission tariff, FERC Electric Tariff, Second Revised Volume No. 6 (FPC's OATT) and CP&L's open-access transmission tariff, FERC Electric Tariff, Third Revised Volume No. 3 (CP&L's OATT), in compliance with the Commission's June 25, 2001, September 21, 2001 and November 26, 2001 orders in these proceedings and an informal staff request. Progress Energy also tenders for filing an index that illustrates the refiling of four Revised Service Agreements under both FPC's OATT and CP&L's OATT and explains why two Revised Service Agreements are not being refiled.

Progress Energy respectfully requests that the Revised Service Agreements become effective December 1, 2000.

Copies of the filing were served upon the City of Tallahassee, the Florida Public Service Commission and North Carolina Utilities Commission.

Comment Date: April 23, 2002.

5. Portland General Electric Company

[Docket No. ER02-338-002]

Take notice that on April 2, 2002, Portland General Electric Company (PGE) filed with the Federal Energy Regulatory Commission (Commission) amendments to PGE's revised Energy Imbalance Service tariff sheets of its Open Access Transmission Tariff in compliance with the Commission's March 15, 2002 letter order in the above-referenced proceeding.

PGE requests that the Commission make the amended tariff sheets effective as of March 1, 2002.

Comment Date: April 23, 2002.

6. Florida Power & Light Company

[Docket No. ER02-700-002]

Take notice that on April 1, 2002, Florida Power & Light Company (FPL) filed, pursuant to the Order issued on February 28, 2002 in the above-captioned proceeding, a compliance filing making the required changes to the unexecuted Interconnection and Operation Agreement between FPL and Okeechobee Generating, LLC.

Comment Date: April 22, 2002.

7. DeSoto County Generating Company, LLC

[Docket No. ER02-1446-000]

Take notice that on April 1, 2002, DeSoto County Generating Company, LLC (DeSoto) tendered for filing pursuant to Section 205 of the Federal Power Act two Tolling Agreements and a tariff for power sales from its DeSoto generating plant, located in the City of Arcadia, Florida. The two Tolling Agreements are between DeSoto and Florida Power & Light Company, within whose service area the plant is located. Each Tolling Agreement was submitted as an independent rate schedule and the power sales tariff is an “up to” type cost-based tariff for sales of non-Tolling Agreement DeSoto energy. DeSoto requests a April 1, 2002 effective date, which is the expected date of test power sales.

Copies of the filing were served upon Florida Power & Light Company and the Florida Public Service Commission.

Comment Date: April 22, 2002.

8. Central Illinois Light Company

[Docket No. ER02-1447-000]

Take notice that on April 1, 2002, Central Illinois Light Company (CILCO), filed with the Federal Energy Regulatory Commission (Commission) an Interconnection Agreement with the Village of Riverton.

Copies of the filing were served on the affected customer and the Illinois Commerce Commission.

Comment Date: April 22, 2002.

9. New England Power Pool

[Docket No. ER02-1448-000]

Take notice that on April 1, 2002, the New England Power Pool (NEPOOL) Participants Committee filed for acceptance materials (1) to permit NEPOOL to expand its membership to include Aquila Merchant Services, Inc. (AMS), Sithe New Boston LLC (SNB), and Wellesley Municipal Light Plant (Wellesley); and (2) to terminate the membership of Aquila Energy Marketing Corporation (AEMC). The Participants Committee requests the following effective dates: March 1, 2002 for commencement of participation in NEPOOL by AMS and the termination of AEMC, April 1, 2002 for commencement of participation in NEPOOL by SNB, and June 1, 2002 for commencement of participation in NEPOOL by Wellesley.

The Participants Committee states that copies of these materials were sent to the New England state governors and regulatory commissions and the Participants in NEPOOL.

Comment Date: April 22, 2002.

10. New England Power Pool

[Docket No. ER02-1449-000]

Take notice that on April 1, 2002, the New England Power Pool (NEPOOL) Participants Committee submitted a filing requesting acceptance of its decision to make payment to CMEEC pursuant to Section 7(g) of the Restated NEPOOL Agreement to compensate it for operation of its quick-start generation on February 28, 2000. NEPOOL respectfully requests that the Commission accept these arrangements to compensate CMEEC to become effective June 1, 2002.

The NEPOOL Participants Committee states that copies of these materials were sent to the New England state governors and regulatory commissions and the Participants in the New England Power Pool.

Comment Date: April 22, 2002.

11. IRH Management Committee

[Docket No. ER02-1450-000]

Take notice that on April 1, 2002, the IRH Management Committee, acting on behalf of the parties to the Agreement with Respect to Use of Quebec Interconnection, as amended, filed Amendments to The Third Amended And Restated Agreement With Respect To Use Of Quebec Interconnection (the Restated Use Agreement) and a related agreement entitled “Agreement Amending Third Amendment And Restatement Of Agreement With Respect To Use Of Quebec Interconnection” and related materials.

The IRH Management Committee states that the proposed amendments to the Restated Use Agreement will provide for more efficient and flexible use of the direct current interconnection facilities between Quebec, Canada and New England and greater integration of those facilities into the overall transmission and market system in New England. An effective date of June 1, 2002 has been requested.

The IRH Management Committee states that copies of these materials were sent to the New England state governors and regulatory commissions and all Interconnection Rights Holders (IRH) and Indirect IRH.

Comment Date: April 22, 2002.

12. Ameren Energy Marketing Company

[Docket No. ER02-1451-000]

Take notice that on April 1, 2002, Ameren Energy Marketing Company (AEM) filed a power sales agreement to allow sales of capacity and energy at market-based rates to its affiliate, Union Electric Company d/b/a AmerenUE. AEM seeks an effective date of June 1, 2002, for the power sales agreement with AmerenUE.

Copies of this filing were served on the affected state utility commissions.

Comment Date: April 22, 2002.

13. Puget Sound Energy, Inc.

[Docket No. ER02-1452-000]

Take notice that on April 1, 2002, Puget Sound Energy, Inc. (Puget) tendered for filing Operating Procedures under the Pacific Northwest Coordination Agreement (PNCA).

Puget states that the Operating Procedures relate to service under the PNCA. A copy of the filing was served upon the parties to the PNCA.

Comment Date: April 22, 2002.

14. Southwest Power Pool, Inc.

[Docket No. ER02-1453-000]

Take notice that on April 1, 2002, Southwest Power Pool, Inc. (SPP) submitted for filing two executed service agreements for Firm Point-to-Point Transmission Service with Western Resources d.b.a. Westar Energy (Transmission Customer) as Service Agreements Nos. 690 and 691.

SPP seeks an effective date of April 1, 2002 for Service Agreement No. 690, and May 1, 2002, for Service Agreement No. 691.

The Transmission Customer was served with a copy of this filing.

Comment Date: April 22, 2002

15. Duke Electric Transmission

[Docket No. ER02-1454-000]

Take notice that on April 1, 2002, Duke Electric Transmission (Duke), a division of Duke Energy Corporation, tendered for filing with the Federal Energy Regulatory Commission (Commission) a Service Agreement under Duke's Open Access Transmission Tariff for Non-Firm Point-to-Point Transmission Service between Duke and UBS AG, London Branch (Customer). Duke states that this filing is in accordance with Part 35 of the Commission's Regulations, 18 CFR Part 35.

Duke requests that the proposed Service Agreement become effective on March 20, 2002.

Duke states that a copy has been served on the North Carolina Utilities Commission.

Comment Date: April 22, 2002.

16. Duke Electric Transmission

[Docket No. ER02-1455-000]Take notice that on April 1, 2002, Duke Electric Transmission (Duke), a division of Duke Energy Corporation, tendered for filing with the Federal Energy Regulatory Commission (Commission) a Service Agreement with Duke Power, for Firm Transmission Service under Duke's Open Access Transmission Tariff. Duke states that this filing is in accordance with Part 35 of the Commission's Regulations, 18 CFR Part 35.

Duke requests that the proposed Service Agreement be permitted to become effective on March 20, 2002.

Duke states that a copy has been served on the North Carolina Utilities Commission.

Comment Date: April 22, 2002.

17. Cinergy Services, Inc.

[Docket No. ER02-1456-000]

Take notice that on April 1, 2002, Cinergy Services, Inc. (Cinergy) tendered for filing a Notice of Name Change from Missouri Public Service -a division of Utilicorp United Inc. to Aquila, Inc. d/b/a Aquila Networks.

A copy of the filing was served upon Aquila, Inc. d/b/a Aquila Networks—MPS.

Comment Date: April 22, 2002.

18. Cinergy Services, Inc.

[Docket No. ER02-1457-000]

Take notice that on April 1, 2002, Cinergy Services, Inc. (Cinergy) tendered for filing a Notice of Name Change from WestPlains Energy—Kansas a division of Utilicorp United Inc. to Aquila, Inc. d/b/a Aquila Networks—MPS

A copy of the filing was served upon Aquila, Inc. d/b/a Aquila Networks—MPS

Comment Date: April 22, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-8898 Filed 4-11-02; 8:45 am]

BILLING CODE 6717-01-P